DEPARTMENT OF TRANSPORTATION

Federal Aviation Administration

14 CFR Part 71

[Docket No. FAA-2008-0926; Airspace Docket No. 08-AAL-24]

RIN 2120-AA66

Establishment, Revision, and Removal of Area Navigation (RNAV) Routes; Alaska

AGENCY: Federal Aviation Administration (FAA), DOT.

ACTION: Final rule.

SUMMARY: This action establishes twenty two Area Navigation (RNAV) routes, and revises fourteen RNAV routes, in the State of Alaska. Additionally, this action removes four existing routes that are no longer required. Q & T-routes are Air Traffic Service (ATS) routes, based on RNAV, for use by aircraft having instrument flight rules (IFR)-approved Global Positioning System (GPS)/Global Navigation Satellite System (GNSS) equipment. The FAA is taking this action to enhance safety and to improve the efficient use of the navigable airspace in Alaska.

DATES: Effective Date: 0901 UTC, August 27, 2009. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

Background

On February 12, 2009, the FAA published in the Federal Register a notice of proposed rulemaking (NPRM) to establish twenty three RNAV routes, and revise fourteen RNAV routes, in the State of Alaska. Additionally, this action proposed to remove four existing routes that are no longer required (74 FR 7012). Interested parties were invited to participate in this rulemaking effort by submitting written comments on this proposal. Two comments were received in response to the NPRM.

The first commenter proposed to amend the T-252 between Nome and Kotzebue. The commenter suggested moving the route to the East to stay closer to land. Moving the proposed T-252 closer to the shoreline would delay establishing a route that traverses Norton Sound until 2010. As a result, the FAA has decided to establish T-252 as proposed, and during the 2010 route development cycle, the FAA will evaluate establishing a route closer to the shoreline as suggested.

The second comment concerned the Prince William Sound region and access to the Alaskan Native villages of Tatitlek and Chenega Bay. In order to accommodate this suggestion, the FAA would have to make the routes four miles wide instead of eight miles in order to achieve an MEA advantage over conventional routing in the area. This would make the routes restricted from public use. While this does not prevent the suggestion from being evaluated for feasibility, development of special RNAV routes falls outside the scope of this project. The FAA will consider this suggestion in future airway work.

During the comment period, the FAA conducted flight inspections of the proposed routes and reviewed the results to evaluate the safety and efficiency of the proposed T route structure. Based on the results of the inspections, and on further refinements to the route designs, the FAA determined that changes are required to the description of one route and the elimination of one route proposed in the NPRM.

A minor change will be made to T-231 by adding a new point (Selawik) between Fairbanks and Kotzebue. This change will realign the route southward to pass over the Selawik VORTAC. This change will cause the route to more closely match current air traffic procedures. Additionally, proposed route T-271 will be eliminated from this rulemaking action since the FAA was unable to complete a flight inspection on T-271. Therefore, the FAA has decided not to implement T-271. With the exception of the changes described above, this amendment is the same as that proposed in the NPRM.

The Rule

This action amends Title 14 Code of Federal Regulations (14 CFR) part 71 by establishing fourteen high altitude RNAV routes, and eight low altitude RNAV routes, in the State of Alaska. Additionally, this action revises one high altitude route, thirteen low altitude routes, and removes four existing “T” routes that are no longer required. These changes will enhance safety, and facilitate the more flexible and efficient use of the navigable airspace for en route IFR operations within the State of Alaska. This action will improve operator efficiency, access and safety, while incrementally reducing dependency on ground based navigation facilities.

The High Altitude RNAV Q-Routes are published in paragraph 2006, and the Low Altitude RNAV T-Routes are published in paragraph 6011 in FAA Order 7400.9S, Airspace Designations and Reporting Points, signed October 3, 2008, and effective October 31, 2008, which is incorporated by reference in 14 CFR 71.1. The airspace designations listed in this document would be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it proposes to create Class A and E airspace sufficient in size to contain aircraft using the described Federal Airways within the State of Alaska and represents the FAA's continuing effort to safely and efficiently use the navigable airspace.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9S, Airspace Designations and Reporting Points, signed October 3, 2008, and effective October 31, 2008, is to be amended as follows:

Paragraph 2006 United States Area Navigation Routes.

* * * * *

Q-41 CAWIN to SCC [New]
CAWIN | Fix | (Lat. 63°16′51″ N., long. 148°59′18″ W.)
SCC | VOR/DME | (Lat. 70°11′57″ N., long. 148°24′58″ W.)
Q-43 ANC to FAI [New]
ANC | VOR/DME | (Lat. 61°09′03″ N., long. 150°12′24″ W.)
CAWIN | Fix | (Lat. 61°16′51″ N., long. 148°59′18″ W.)
FAI | VORTAC | (Lat. 64°48′00″ N., long. 148°00′43″ W.)
Q-44 OME to ANC [New]
OME | VOR/DME | (Lat. 64°29′06″ N., long. 165°15′11″ W.)
ANC | VOR/DME | (Lat. 61°09′03″ N., long. 150°12′24″ W.)
Q-45 DLG to AMOTT [New]
DLG | VOR/DME | (Lat. 58°59′39″ N., long. 158°33′08″ W.)
AMOTT | Fix | (Lat. 60°53′56″ N., long. 151°21′46″ W.)
Q-46 PHO to BRW [New]
PHO | NDB | (Lat. 68°20′41″ N., long. 166°47′51″ W.)
BRW | VOR/DME | (Lat. 71°16′24″ N., long. 156°47′17″ W.)
Q-47 AKN to AMOTT [New]
AKN | VORTAC | (Lat. 58°43′29″ N., long. 156°45′08″ W.)
AMOTT | Fix | (Lat. 60°53′56″ N., long. 151°21′46″ W.)
Q-48 BRW to ROCES [New]
BRW | VOR/DME | (Lat. 71°16′24″ N., long. 156°47′17″ W.)
SCC | VOR/DME | (Lat. 70°11′57″ N., long. 148°24′58″ W.)
ROCES | WP | (Lat. 70°08′34″ N., long. 143°08′16″ W.)
* * * * * * *
Q-49 ODK to AMOTT [New]
ODK | VOR/DME | (Lat. 57°46′30″ N., long. 152°20′23″ W.)
AMOTT | Fix | (Lat. 60°53′56″ N., long. 151°21′46″ W.)
Q-51 AKN to OTZ [New]
AKN | VORTAC | (Lat. 58°43′29″ N., long. 156°45′08″ W.)
OTZ | VOR/DME | (Lat. 66°53′09″ N., long. 162°32′24″ W.)
Q-53 ODK to OTZ [New]
ODK | VOR/DME | (Lat. 57°46′30″ N., long. 152°20′23″ W.)
ILI | NDB/DME | (Lat. 59°44′53″ N., long. 154°54′35″ W.)
OTZ | VOR/DME | (Lat. 66°53′09″ N., long. 162°32′24″ W.)
Q-55 ODK to OME [New]
ODK | VOR/DME | (Lat. 57°46′30″ N., long. 152°20′23″ W.)
OME | VOR/DME | (Lat. 64°29′06″ N., long. 165°15′11″ W.)
Q-57 AKN to MCG [New]
AKN | VORTAC | (Lat. 58°43′29″ N., long. 156°45′08″ W.)
MCG | VORTAC | (Lat. 62°57′04″ N., long. 155°36′41″ W.)
Q-59 CDB to BET [New]
CDB | VORTAC | (Lat. 55°16′03″ N., long. 162°46′27″ W.)
BET | VORTAC | (Lat. 60°47′05″ N., long. 161°49′28″ W.)
Q-61 FAI to BRW [New]
FAI | VORTAC | (Lat. 64°48′00″ N., long. 148°00′43″ W.)
BRW | VOR/DME | (Lat. 71°16′24″ N., long. 156°47′17″ W.)
* * * * * * *
Q-16 ODK to YAK [Revised]
ODK | VOR/DME | (Lat. 57°46′30″ N., long. 152°20′23″ W.)
MDO | VOR/DME | (Lat. 59°25′19″ N., long. 146°21′00″ W.)
YAK | VOR/DME | (Lat. 59°30′39″ N., long. 139°38′53″ W.)

* * * * *

Paragraph 6011. United States Area Navigation Routes.

* * * * *

T-269 BET to ANN [New]
BET | VORTAC | (Lat. 60°47′05″ N., long. 161°49′28″ W.)
SQA | VOR/DME | (Lat. 61°05′55″ N., long. 155°38′04″ W.)
ANC | VOR/DME | (Lat. 61°09′03″ N., long. 150°12′24″ W.)
JOH | VOR/DME | (Lat. 60°28′51″ N., long. 146°35′58″ W.)
YAK | VOR/DME | (Lat. 59°30′39″ N., long. 139°38′53″ W.)
BKA | VORTAC | (Lat. 56°51′34″ N., long. 135°33′05″ W.)
ANN | VOR/DME | (Lat. 55°03′37″ N., long. 131°34′42″ W.)
* * * * * * *
T-273 FAI to ROCES [New]
FAI | VORTAC | (Lat. 64°48′00″ N., long. 148°00′43″ W.)
ROCES | WP | (Lat. 70°08′34″ N., long. 144°08′16″ W.)
* * * * * * *
T-275 BET to UNK [New]
BET | VORTAC | (Lat. 60°47′05″ N., long. 161°49′28″ W.)
UNK | VOR/DME | (Lat. 63°53′31″ N., long. 160°41′04″ W.)
* * * * * * *
T-277 BTT to PIZ [New]
BTT | VOR/DME | (Lat. 66°54′18″ N., long. 151°32′09″ W.)
PIZ | NDB | (Lat. 69°44′04″ N., long. 163°44′49″ W.)
T-278 HAPIT to SSR [New]
HAPIT | Fix | (Lat. 58°11′58″ N., long. 137°31′12″ W.)
SSR | VORTAC | (Lat. 58°10′40″ N., long. 135°15′32″ W.)
T-279 ALEUT to BET [New]
ALEUT | Fix | (Lat. 54°14′17″ N., long. 166°32′52″ W.)
BET | VORTAC | (Lat. 60°47′05″ N., long. 161°49′28″ W.)
T-280 FLIPS to LVD [New]
FLIPS | Fix | (Lat. 56°34′33″ N., long. 134°52′47″ W.)
LVD | VOR/DME | (Lat. 56°28′04″ N., long. 133°04′59″ W.)
* * * * * * *
T-282 VENCE to FAI [New]
VENCE | Fix | (Lat. 64°29′23″ N., long. 158°00′06″ W.)
HORSI | Fix | (Lat. 64°44′05″ N., long. 154°19′15″ W.)
ROSII | Fix | (Lat. 64°57′46″ N., long. 153°14′37″ W.)
PERZO | WP | (Lat. 64°40′23″ N., long. 148°07′20″ W.)
FAI | VORTAC | (Lat. 64°48′00″ N., long. 148°00′43″ W.)
* * * * * * *
T-219 AIX to DLG [Revised]
AIX | NDB/DME | (Lat. 60°23′06″ N., long. 166°12′53″ W.)
RUFVY | WP | (Lat. 59°56′34″ N., long. 164°02′04″ W.)
DLG | VOR/DME | (Lat. 58°59′39″ N., long. 158°33′08″ W.)
* * * * * * *
T-222 BAERE TO FAI [Revised]
BAERE | WP | (Lat. 52°12′12″ N., long. 176°08′09″ W.)
SPY | NDB/DME | (Lat. 57°09′28″ N., long. 170°13′51″ W.)
RUFVY | WP | (Lat. 59°56′34″ N., long. 164°02′04″ W.)
BET | VORTAC | (Lat. 60°47′05″ N., long. 161°49′28″ W.)
MCG | VORTAC | (Lat. 62°57′04″ N., long. 155°36′41″ W.)
ENN | VORTAC | (Lat. 64°35′24″ N., long. 149°04′22″ W.)
FAI | VORTAC | (Lat. 64°48′00″ N., long. 148°00′43″ W.)
* * * * * * *
T-223 EHM to AMOTT [Revised]
EHM | NDB/DME | (Lat. 58°39′24″ N., long. 162°04′17″ W.)
DLG | VOR/DME | (Lat. 58°59′39″ N., long. 158°33′08″ W.)
FAGIN | Fix | (Lat. 59°51′56″ N., long. 155°32′43″ W.)
NONDA | Fix | (Lat. 60°19′16″ N., long. 153°47′58″ W.)
BLUGA | Fix | (Lat. 60°46′22″ N., long. 151°55′07″ W.)
AMOTT | Fix | (Lat. 60°53′56″ N., long. 151°21′46″ W.)
* * * * * * *
T-227 SYA to SCC [Revised]
SYA | VORTAC | (Lat. 52°43′06″ N., long. 174°03′44″ E.)
JANNT | WP | (Lat. 52°04′18″ N., long. 178°15′37″ W.)
BAERE | WP | (Lat. 52°12′12″ N., long. 176°08′09″ W.)
ALEUT | Fix | (Lat. 54°14′17″ N., long. 166°32′52″ W.)
MORDI | Fix | (Lat. 54°52′50″ N., long. 165°03′15″ W.)
GENFU | Fix | (Lat. 55°23′18″ N., long. 163°06′21″ W.)
BINAL | Fix | (Lat. 55°46′00″ N., long. 161°59′56″ W.)
PDN | NDB/DM | (Lat. 56°57′15″ N., long. 158°38′51″ W.)
AMOTT | Fix | (Lat. 60°53′56″ N., long. 151°21′46″ W.)
ANC | VOR/DME | (Lat. 61°09′03″ N., long. 150°12′24″ W.)
FAI | VORTAC | (Lat. 64°48′00″ N., long. 148°00′43″ W.)
SCC | VOR/DME | (Lat. 70°11′57″ N., long. 148°24′58″ W.)
T-228 EHM to ROCES [Revised]
ENM | VOR/DME | (Lat. 62°47′05″ N., long. 164°29′15″ W.)
RUFVY | WP | (Lat. 59°56′34″ N., long. 164°02′04″ W.)
HPB | VOR/DME | (Lat. 61°30′52″ N., long. 166°08′04″ W.)
OME | VOR/DME | (Lat. 64°29′06″ N., long. 165°15′11″ W.)
HIKAX | WP | (Lat. 65°36′20″ N., long. 165°44′44″ W.)
SHH | NDB | (Lat. 66°15′29″ N., long. 166°03′09″ W.)
ECIPI | Fix | (Lat. 67°55′48″ N., long. 165°29′58″ W.)
BRW | VOR/DME | (Lat. 71°16′24″ N., long. 156°47′17″ W.)
SCC | VOR/DME | (Lat. 70°11′57″ N., long. 148°24′58″ W.)
ROCES | WP | (Lat. 70°08′34″ N., long. 144°08′16″ W.)
* * * * * * *
T-231 FAI to OTZ [Revised]
FAI | VORTAC | (Lat. 64°48′00″ N., long. 148°00′43″ W.)
WLK | VOR/DME | (Lat. 66°35′58″ N., long. 159°59′27″ W.)
OTZ | VOR/DME | (Lat. 66°53′09″ N., long. 162°32′24″ W.)
T-232 BRW to ORT [Revised]
BRW | VOR/DME | (Lat. 71°16′24″ N., long. 156°47′17″ W.)
BRONX | Fix | (Lat. 70°04′02″ N., long. 155°06′35″ W.)
BTT | VOR/DME | (Lat. 66°54′18″ N., long. 151°32′09″ W.)
FAI | VORTAC | (Lat. 64°48′00″ N., long. 148°00′43″ W.)
BIG | VORTAC | (Lat. 64°00′16″ N., long. 145°43′02″ W.)
ORT | VORTAC | (Lat. 62°56′50″ N., long. 141°54′46″ W.)
* * * * * * *
T-240 BTT to SCC [Revised]
BTT | VOR/DME | (Lat. 66°54′18″ N., long. 151°32′09″ W.)
NAMRE | WP | (Lat. 69°06′29″ N., long. 149°34′00″ W.)
SCC | VOR/DME | (Lat. 70°11′57″ N., long. 148°24′58″ W.)
* * * * * * *
T-246 BRW to ANC [Revised]
BRW | VOR/DME | (Lat. 71°16′24″ N., long. 156°47′17″ W.)
GAL | VOR/DME | (Lat. 64°44′17″ N., long. 156°46′38″ W.)
MCG | VORTAC | (Lat. 62°57′04″ N., long. 155°36′41″ W.)
ANC | VOR/DME | (Lat. 61°09′03″ N., long. 150°12′24″ W.)
* * * * * * *
T-248 GAM to ENM [Revised]
GAM | NDB/DME | (Lat. 63°46′55″ N., long. 171°44′12″ W.)
QAYAQ | WP | (Lat. 63°52′14″ N., long. 169°59′42″ W.)
ENM | VOR/DME | (Lat. 62°47′05″ N., long. 164°29′15″ W.)
* * * * * * *
T-250 ULL to BET [Revised]
ULL | VOR/DME | (Lat. 63°41′32″ N., long. 170°28′12″ W.)
QAYAQ | WP | (Lat. 63°52′14″ N., long. 169°59′42″ W.)
BANAT | WP | (Lat. 62°12′49″ N., long. 165°40′01″ W.)
BET | VORTAC | (Lat. 60°47′05″ N., long. 161°49′28″ W.)
* * * * * * *
T-252 OME to SCC [Revised]
OME | VOR/DME | (Lat. 64°29′06″ N., long. 165°15′11″ W.)
OTZ | VOR/DME | (Lat. 66°53′09″ N., long. 162°32′24″ W.)
SCC | VOR/DME | (Lat. 70°11′57″ N., long. 148°24′58″ W.)
* * * * * * *
T-260 PHO to OME [Revised]
PHO | NDB | (Lat. 68°20′41″ N., long. 166°47′51″ W.)
COGNU | WP | (Lat. 65°48′29″ N., long. 167°50′06″ W.)
TNC | NDB/DME | (Lat. 65°33′43″ N., long. 167°55′27″ W.)
OME | VOR/DME | (Lat. 64°29′06″ N., long. 165°15′11″ W.)
* * * * * * *
T-239 GAM to ULL [Remove]
* * * * * * *
T-256 GAL to BRW [Remove]
* * * * * * *
T-258 SHH to PHO [Remove]
* * * * * * *
T-268 FPN to ICK [Remove]

* * * * *

Issued in Washington, DC, on June 26, 2009.
Edith V. Parish,
Manager, Airspace and Rules Group.

[FR Doc. E9-15695 Filed 7-2-09; 8:45 am]

BILLING CODE 4910-13-P